DEPARTMENT OF ENERGY

Federal Energy Regulatory Commission

[Docket No. CP99-163-000; CA Clearinghouse No. SCH99041103]

Federal Energy Regulatory Commission and California State Lands Commission: Questar Southern Trails Pipeline Company; Notice of Completion and Availability of the Final Environmental Impact Statement/Environmental Impact Report for the Proposed Southern Trails Pipeline Project

July 21, 2000.

The staffs of the Federal Energy Regulatory Commission (FERC) and the California State Lands Commission (CSLC) have completed work on a joint Final Environmental Impact Statement/Environmental Impact Report (FEIS/R) on natural gas pipeline facilities proposed by Questar Southern Trails Pipeline Company (QST) in the above-referenced docket.

The FEIS/R was prepared as required by the National Environmental Policy Act and the California Environmental Policy Act. Its purpose is to inform the public and the permitting agencies about the potential adverse and beneficial environmental impacts of the proposed project and its alternatives, and recommend mitigation measures which would reduce any significant adverse impacts to the maximum extent possible and, where feasible, to a less-than-significant level. The staffs conclude that approval of the proposed project, with appropriate mitigating measures as recommended, would have limited adverse environmental impact.

The Southern Trails Pipeline Project involves the conversion of an existing crude oil pipeline (known as the ARCO Four Corners Pipeline Line 90 System) to natural gas service, and the construction of new pipeline and seven compressor stations. The FEIS/R assesses the potential environmental effects of the conversion, construction, and operation of the following facilities in California, Arizona, Utah, and New Mexico:

• About 675 miles of existing pipeline to be converted from crude oil to natural gas service (592 miles of 16-inch, 80 miles of 12-inch, and 3 miles of 22-inch-diameter pipeline);

• Five new pipeline extensions totaling about 43.2 miles;

• Four reroutes/realignments of the existing pipeline totaling about 9.3 miles;

• 39 replacement segments of the existing pipeline totaling about 7.3 miles;

• 240 excavation sites along existing pipeline totaling 5.1 miles; and

• Seven new compressor stations (6 of which would be located on existing oil pump stations sites—3 sites in California; 2 sites in Arizona; 1 site in Utah; and 1 site in New Mexico).

The proposed project would be capable of transporting up to 80 to 90 million cubic feet per day of natural gas (MMcfd) to customers east of California and at least 120 MMcfd to customers in southern California.

The FEIS/R will be used in the regulatory decision-making process at the FERC and CSLC, and may be presented as evidentiary material in formal hearings at the FERC and CSLC. While the period for filing interventions in these cases have expired, motions to intervene out of time can be filed with the FERC in accordance with the Commission's Rules and Practice and Procedures, 18 Code of Federal Regulations (CFR) 385.214(d). Further, anyone desiring to file a protest with the FERC should do so in accordance with 18 CFR 385.211.

The CSLC will consider certification of the FEIR and approval following FERC's action. California recipients of this document will receive separate notice for the CSLC meeting.

The FEIS/R has been placed in the public files of the FERC and CSLC and is available for public inspection at:

Federal Energy Regulatory Commission, Public Reference and Files Maintenance Branch, 888 First Street, NE, Room 2A, Washington, DC 20426, (202) 208-1371

California State Lands Commission, 100 Howe Avenue, Suite 100-South, Sacramento, CA 95825-8202, (916) 574-1889

Copies also are available for reading at the following locations:

Library | Address | City | Zip code
CALIFORNIA
Canyon Hills Library | 400 Scout Trail | Anaheim | 92807
Euclid Branch Library | 1340 S. Euclid St | Anaheim | 92804
Banning Public Library | 21 W. Nicholet St | Banning | 92220
Beaumont District Library | 125 E. 8th St | Beaumont | 92223
Cabazon Library | 50171 Ramona Ave | Cabazon | 92230
Corona Library | 650 South Main | Corona | 91720
Cyress Library | 5331 Orange Ave | Cypress | 90630
Joshua Tree Branch Library | 6465 Park Blvd | Joshua Tree | 92252
Angelo M Iacaboni Library | 4990 Clark Ave | Lakewood | 90712
George Nye, Jr. Library | 6600 Del Amo Blvd | Lakewood | 90713
Dominguez Library | 2719 E. Carson St | Long Beach | 90810
Taft Library | 740 E. Taft Ave | Orange | 92665
Yucca Valley Branch Library | 57098 29 Palms Hwy | Yucca Valley | 92284
ARIZONA
Mohave County Library | 3269 N. Burbank | Kingman | 86401
Kayenta Unified School #27 |  | Kayenta | 86033
UTAH
San Juan County Library | 25 West 300 South | Blanding | 84511
NEW MEXICO
Farmington Public Library | 100 West Broadway | Farmington | 87401
Bloomfield Public Library | 333 South First | Bloomfield | 87413

A limited number of copies are available from the FERC's Public Reference and Files Maintenance Branch identified above. In addition, the FEIS/R has been mailed to Federal, state, and local agencies; public interest groups; individuals who have requested the FEIS/R; libraries; newspapers; and parties to this proceeding.

In accordance with the Council on Environmental Quality's (CEQ) regulations implementing the National Environmental Policy Act, no agency decision on a proposed action may be made until 30 days after the U.S. Environmental Protection Agency publishes a notice of availability of the FEIS. However, the CEQ regulations provide an exception to this rule when an agency decision is subject to a formal internal appeal process which allows other agencies or the public to make their views known. In such cases, the agency decision may be made at the same time the notice of the FEIS is published, allowing both periods to run concurrently. The Commission decision for this proposed action is subject to a 30-day rehearing period.

Additional information about the proposed project is available from Daniel Gorfain at the CSLC ((916) 574-1889)); Paul McKee in the FERC's Office of External Affairs ((202) 208-1088)); or on the FERC website (www.ferc.fed.us) using the “RIMS” link to information in this docket number. For assistance with access to RIMS, the RIMS help line can be reached at (202) 208-2222. Access to the texts of formal documents issued by the FERC with regard to this docket, such as orders and notices, is also available on the FERC website using the “CIPS” link. For assistance with access to CIPS, the CIPS help line can be reached at (202) 208-2474.

Paul D. Thayer, Executive Officer, California State Lands Commission.

David P. Boergers.
Secretary, Federal Energy Regulatory Commission.

[FR Doc. 00-18966 Filed 7-26-00; 8:45 am]

BILLING CODE 6717-01-M